NATIONAL AERONAUTICS AND SPACE ADMINISTRATION

[Notice: 24-058]

NASA Advisory Council; Human Exploration and Operations Committee; Meeting

AGENCY: National Aeronautics and Space Administration.

ACTION: Notice of meeting.

SUMMARY: In accordance with the Federal Advisory Committee Act, the National Aeronautics and Space Administration (NASA) announces a meeting of the Human Exploration and Operations Committee of the NASA Advisory Council (NAC). This Committee reports to the NAC.

DATES: Tuesday, September 17, 2024, 9:30 a.m. to 4:30 p.m. All times are eastern time.

ADDRESSES: Public attendance will be virtual only. See dial-in and Webex information below under SUPPLEMENTARY INFORMATION.

FOR FURTHER INFORMATION CONTACT: Dr. Bette Siegel, Designated Federal Officer, Human Exploration and Operations Committee, NASA Headquarters, Washington, DC 20546, via email at bette.siegel@nasa.gov or 202-358-2245.

SUPPLEMENTARY INFORMATION: As noted above, this meeting will be open to the public via Webex and telephonically. Webex connectivity information is provided below. For audio, when you join the Webex Webinar, you may use your computer or provide your phone number to receive a call back, otherwise, call the U.S. toll conference number listed.

On September 17, the event address for attendees is: https://nasaenterprise.webex.com/nasaenterprise/j.php?MTID=m91721cc21974b380a586a69c7b11e415.

The webinar number is 2831 319 9645 and the webinar password is 5pMuwqJB*89. If needed, the U.S. toll conference number is 1-929-251-9612 or 1-415-527-5035 and access code is 283 131 99645 and password is 57689752.

The agenda for the meeting includes the following topics:

—Space Operations Mission Directorate

—Human Research Program

—International Space Station

—Commercial Crew Program

—Commercial LEO Development/Commercial Space Stations

—Space Communications and Navigation Program

It is imperative that this meeting is held on this day to accommodate the scheduling priorities of the key participants.

For more information, please visit https://www.nasa.gov/nac/heo-committee/.

Jamie M. Krauk,
Advisory Committee Management Officer, National Aeronautics and Space Administration.

[FR Doc. 2024-19471 Filed 8-28-24; 8:45 am]

BILLING CODE 7510-13-P